DEPARTMENT OF TRANSPORTATION

National Highway Traffic Safety Administration

[U.S. DOT Docket No. NHTSA-2012-0179]

Reports, Forms, and Recordkeeping Requirements

AGENCY: National Highway Traffic Safety Administration (NHTSA), DOT.

ACTION: Request for public comment on proposed collection of information.

SUMMARY: Before a Federal agency can collect certain information from the public, it must receive approval from the Office of Management and Budget (OMB). Under the procedures established by the Paperwork Reduction Act of 1995, before seeking OMB approval, Federal agencies must solicit public comment on proposed collections of information, including extensions and reinstatements of previously approved collections. This document describes one collection of information for which NHTSA intends to seek OMB approval.

DATES: Comments must be received on or before March 18, 2013.

ADDRESSES: You may submit comments identified by DOT Docket ID Number NHTSA-2011-0129 using any of the following methods:

Electronic submissions: Go to http://www.regulations.gov. Follow the online instructions for submitting comments.

Mail: Docket Management Facility, M-30, U.S. Department of Transportation, West Building, Ground Floor, 1200 New Jersey Ave. SE., Room W12-140, Washington, DC 20590.

Hand Delivery: West Building Ground Floor, Room W12-140, 1200 New Jersey Avenue SE., Washington, DC, between 9 a.m. and 5 p.m., Monday through Friday, except Federal holidays. Fax: 1-202-493-2251.

Instructions: Each submission must include the Agency name and the Docket number for this Notice. Note that all comments received will be posted without changes to http://www.regulations.gov including any personal information provided.

FOR FURTHER INFORMATION CONTACT: Julie Kang, Ph.D., Contracting Officer's Technical Representative Task Order Manager, Office of Human-Vehicle Performance Research (NVS-331), National Highway Traffic Safety Administration, 1200 New Jersey Ave. SE., Washington, DC 20590. Dr. Kang's phone number is 202-366-7664. Her email address is julie.kang@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submissions of responses.

In compliance with these requirements, NHTSA asks public comment on the following proposed collection of information:

Driver Monitoring of Inattention and Impairment Using Vehicle Equipment (Phase 2)

Type of Request—New information collection requirement.

OMB Clearance Number—None.

Form Number—NHTSA Form 1157.

Requested Expiration Date of Approval—Two years from date of approval.

Summary of the Collection of Information—NHTSA proposes to collect information from the public as part of a multipart study to develop and evaluate vehicle-based algorithms to detect and mitigate impairment and inattention. Questions will be asked in conjunction with a pair of simulator experiments to determine eligibility, and to provide details about the individuals and their experiences in the simulator that are necessary to explain the simulator data.

Description of the Need for the Information and Proposed Use of the Information—The National Highway Traffic Safety Administration's (NHTSA) mission is to save lives, prevent injuries, and reduce healthcare and other economic costs associated with motor vehicle crashes. In 2010, 899,000 police-reported crashes involved a distracted driver. This number accounts for 17 percent of the total number of police-reported crashes. Driver distraction is the diversion of attention from activities critical for safe driving to a competing activity. Examples of these tasks include talking on a cell phone, reaching for an object, or using a digital music player. NHTSA estimates that 100,000 police-reported crashes each year are the result of driver fatigue, but this estimate may be conservative. There are no tests to accurately determine fatigue and it is a difficult driver state to measure.

In a continuing effort to reduce the adverse consequences of impaired and inattentive driving, NHTSA in conjunction with the National Advanced Driving Simulator (NADS) is undertaking research to develop and evaluate vehicle-based algorithms that will detect impaired driving, e.g. driving while intoxicated, distracted, or drowsy. The agency believes that use of vehicle-based, detection technologies could help to significantly reduce the number of impaired driving crashes by alerting drivers to stop driving or disengage with distracting activities.

Description of the Likely Respondents (Including Estimated Number, and Proposed Frequency of Response to the Collection of Information)—Under this proposed effort, the Contractor will contact approximately 168 individuals for the phone-screening portion of the study. The screening is roughly 10 minutes in length. It is estimated that 100 of these individuals will be enrolled into the study to obtain the 72 completed data sets. The individuals contacted are persons in Eastern Iowa who have volunteered to take part in a driving simulation study. Businesses are ineligible for the sample and will not be contacted.

Estimate of the Total Annual Reporting and Recordkeeping Burden Resulting From the Collection of Information—It is estimated that the total respondent burden will be 203 hours. There are two experiments: Track A and Track B. Individuals in Track A will have a burden of 30-45 minutes and individuals in Track B will have a burden of 150-180 minutes. Respondents who only complete the phone screening will have a burden of 10 minutes. The respondents will not incur any reporting cost from the information collection. The respondents also will not incur any recordkeeping burden or recordkeeping cost from the information collection.

Authority: 44 U.S.C. 3506(c)(2)(A).

Joseph Carra,
Acting Associate Administrator, Office of Vehicle Safety Research.

[FR Doc. 2013-00798 Filed 1-15-13; 8:45 am]

BILLING CODE 4910-59-P